FEDERAL COMMUNICATIONS COMMISSION

47 CFR Part 1

[GEN Docket No. 86-285; FCC 06-131]

Schedule of Application Fees

AGENCY: Federal Communications Commission.

ACTION: Final rule.

SUMMARY: In this document the Commission has amended its Schedule of Application Fees to adjust the fees for processing applications and other filings. Section 8(b) of the Communications Act requires the Commission to adjust its application fees every two years after October 1, 1991 to reflect the net change in the Consumer Price Index for all Urban Consumers (CPI-U). The increased fees reflect the net change in the CPI-U of 7.7 percent, calculated from October 2003 to October 2005.

DATES: Effective October 16, 2006.

FOR FURTHER INFORMATION CONTACT: Yvette Barrett, Office of the Managing Director at (202) 418-0603.

SUPPLEMENTARY INFORMATION: In the Matter of the Schedule of Application Fees Set Forth in §§ 1.1102 through 1.1107 of the Commission's Rules.

Adopted: August 30, 2006.

Released: September 1, 2006.

By this action, the Commission amends its Schedule of Application Fees, 47 CFR 1.1102 et seq., to adjust the fees for processing applications and other filings. Section 8(b) of the Communications Act, as amended, requires that the Commission review and adjust its application fees every two years after October 1, 1991. 47 U.S.C. 158(b). The adjusted or increased fees reflect the net change in the Consumer Price Index for all Urban Consumers (CPI-U) of 58 percent, calculated from December 1989 to October 2005. The adjustments made to the fee schedule comport with the statutory formula set forth in section 8(b).

List of Subjects in 47 CFR Part 1

Practice and procedures.

Federal Communications Commission.
Marlene H. Dortch,
Secretary.

Rule Changes

For the reasons discussed in the preamble, the Federal Communications amends 47 CFR part 1 as follows:

PART 1—PRACTICE AND PROCEDURE

1. The authority citations for part 1 continue to read as follows:

Authority: 47 U.S.C. 151, 154(i), 154(j), 155, 225, 303, and 309, unless otherwise noted.

2. Section 1.1102 is revised to read as follows:

§ 1.1102 Schedule of charges for applications and other filings in the wireless telecommunications services.

Those services designated with an asterisk in the payment type code column have associated regulatory fees that must be paid at the same time the application fee is paid. Please refer to § 1.1152 for the appropriate regulatory fee that must be paid for this service.

Service | FCC form No. | Fee amount | Payment type code | Address
1. Marine Coast:
a. New; Renewal/Modification | 601 & 159 | $115.00 | PBMR * | Federal Communications Commission Wireless Bureau Applications P.O. Box 358130 Pittsburgh, PA 15251-5130.
b. Modification; Public Coast CMRS; Non-Profit | 601 & 159 | 115.00 | PBMM | Federal Communications Commission Wireless Bureau Applications P.O. Box 358130 Pittsburgh, PA 15251-5130.
c. Assignment of Authorization | 603 & 159 | 115.00 | PBMM | Federal Communications Commission Wireless Bureau Applications P.O. Box 358130 Pittsburgh, PA 15251-5130.
d. Transfer of Control Spectrum Leasing for Public Coast | 603 & 159 603-T/608 ** & 159 | 60.00 | PATM | Federal Communications Commission Wireless Bureau Applications P.O. Box 358130 Pittsburgh, PA 15251-5130.
e. Duplicate License | 601 & 159 | 60.00 | PADM | Federal Communications Commission Wireless Bureau Applications P.O. Box 358130 Pittsburgh, PA 15251-5130.
f. Special Temporary Authority | 601 & 159 | 160.00 | PCMM | Federal Communications Commission Wireless Bureau Applications P.O. Box 358130 Pittsburgh, PA 15251-5130.
g. Renewal Only | 601 & 159 | 115.00 | PBMR * | Federal Communications Commission Wireless Bureau Applications P.O. Box 358245 Pittsburgh, PA 15251-5245.
h. Renewal (Electronic Filing) | 601 & 159 | 115.00 | PBMR * | Federal Communications Commission Wireless Bureau Applications P.O. Box 358994 Pittsburgh, PA 15251-5994.
i. Renewal Only (Non-Profit; CMRS) | 601 & 159 | 115.00 | PBMM | Federal Communications Commission Wireless Bureau Applications P.O. Box 358245 Pittsburgh, PA 15251-5245.
j. Renewal (Electronic Filing) Non-profit, CMRS | 601 & 159 | 115.00 | PBMM | Federal Communications Commission Wireless Bureau Applications P.O. Box 358994 Pittsburgh, PA 15251-5994.
k. Rule Waiver | 601, 603 or 603-T/608 ** & 159 | 170.00 | PDWM | Federal Communications Commission Wireless Bureau Applications P.O. Box 358130 Pittsburgh, PA 15251-5130.
l. Modification for Spectrum Leasing for Public Coast Stations | 608 ** & 159 | 115.00 | PBMM | Federal Communications Commission Wireless Bureau Applications P.O. Box 358130 Pittsburgh, PA 15251-5130.
2. Aviation Ground:
a. New; Renewal/Modification | 601 & 159 | 115.00 | PBVR * | Federal Communications Commission Wireless Bureau Applications P.O. Box 358130 Pittsburgh, PA 15251-5130.
b. Modification; Non-Profit | 601 & 159 | 115.00 | PBVM | Federal Communications Commission Wireless Bureau Applications P.O. Box 358130 Pittsburgh, PA 15251-5130.
c. Assignment of Authorization | 603 & 159 | 115.00 | PBVM | Federal Communications Commission Wireless Bureau Applications P.O. Box 358130 Pittsburgh, PA 15251-5130.
d. Transfer of Control | 603 & 159 | 60.00 | PATM | Federal Communications Commission Wireless Bureau Applications P.O. Box 358130 Pittsburgh, PA 15251-5130.
e. Duplicate License | 601 & 159 | 60.00 | PADM | Federal Communications Commission Wireless Bureau Applications P.O. Box 358130 Pittsburgh, PA 15251-5130.
f. Special Temporary Authority | 601 & 159 | 160.00 | PCVM | Federal Communications Commission Wireless Bureau Applications P.O. Box 358130 Pittsburgh, PA 15251-5130.
g. Renewal Only | 601 & 159 | 115.00 | PBVR * | Federal Communications Commission Wireless Bureau Applications P.O. Box 358245 Pittsburgh, PA 15251-5245.
h. Renewal (Electronic Filing) | 601 & 159 | 115.00 | PBVR * | Federal Communications Commission Wireless Bureau Applications P.O. Box 358994 Pittsburgh, PA 15251-5994.
i. Renewal Only Non-Profit | 601 & 159 | 115.00 | PBVM | Federal Communications Commission Wireless Bureau Applications P.O. Box 358245 Pittsburgh, PA 15251-5245.
j. Renewal Non-Profit (Electronic Filing) | 601 & 159 | 115.00 | PBVM | Federal Communications Commission Wireless Bureau Applications P.O. Box 358994 Pittsburgh, PA 15251-5994.
k. Rule Waiver | 601 or 603 & 159 | 170.00 | PDWM | Federal Communications Commission Wireless Bureau Applications P.O. Box 358130 Pittsburgh, PA 15251-5130.
3. Ship:
a. New; Renewal/Modification; Renewal Only | 605 & 159 | 60.00 | PASR * | Federal Communications Commission Wireless Bureau Applications P.O. Box 358130 Pittsburgh, PA 15251-5130.
b. New; Renewal/Modification; Renewal Only (Electronic Filing) | 605 & 159 | 60.00 | PASR * | Federal Communications Commission Wireless Bureau Applications P.O. Box 358994 Pittsburgh, PA 15251-5994.
c. Renewal Only Non-profit | 605 & 159 | 60.00 | PASM | Federal Communications Commission Wireless Bureau Applications P.O. Box 358130 Pittsburgh, PA 15251-5130.
d. Renewal Only Non-profit (Electronic Filing) | 605 & 159 | 60.00 | PASM | Federal Communications Commission Wireless Bureau Applications P.O. Box 358994 Pittsburgh, PA 15251-5994.
e. Modification; Non-profit | 605 & 159 | 60.00 | PASM | Federal Communications Commission Wireless Bureau Applications P.O. Box 358130 Pittsburgh, PA 15251-5130.
f. Modification; Non-profit (Electronic Filing) | 605 & 159 | 60.00 | PASM | Federal Communications Commission Wireless Bureau Applications P.O. Box 358994 Pittsburgh, PA 15251-5994.
g. Duplicate License | 605 & 159 | 60.00 | PADM | Federal Communications Commission Wireless Bureau Applications P.O. Box 358130 Pittsburgh, PA 15251-5130.
h. Duplicate License (Electronic Filing) | 605 & 159 | 60.00 | PADM | Federal Communications Commission Wireless Bureau Applications P.O. Box 358994 Pittsburgh, PA 15251-5994.
i. Exemption from Ship Station Requirements | 605 & 159 | 170.00 | PDWM | Federal Communications Commission Wireless Bureau Applications P.O. Box 358130 Pittsburgh, PA 15251-5130.
j. Rule Waiver | 605 & 159 | 170.00 | PDWM | Federal Communications Commission Wireless Bureau Applications P.O. Box 358130 Pittsburgh, PA 15251-5130.
k. Exemption from Ship Station Requirements (Electronic Filing) | 605 & 159 | 170.00 | PDWM | Federal Communications Commission Wireless Bureau Applications P.O. Box 358994 Pittsburgh, PA 15251-5994.
l. Rule Waiver (Electronic Filing) | 605 & 159 | 170.00 | PDWM | Federal Communications Commission Wireless Bureau Applications P.O. Box 358994 Pittsburgh, PA 15251-5994.
4. Aircraft:
a. New; Commission Renewal/Modification | 605 & 159 | 60.00 | PAAR * | Federal Communications Wireless Bureau Applications P.O. Box 358130 Pittsburgh, PA 15251-5130.
b. New; Renewal/Modification (Electronic Filing) | 605 & 159 | 60.00 | PAAR * | Federal Communications Commission Wireless Bureau Applications P.O. Box 358994 Pittsburgh, PA 15251-5994.
c. Modification; Non-Profit | 605 & 159 | 60.00 | PAAM | Federal Communications Commission Wireless Bureau Applications P.O. Box 358130 Pittsburgh, PA 15251-5130.
d. Modification Non-Profit (Electronic Filing) | 605 & 159 | 60.00 | PAAM | Federal Communications Commission Wireless Bureau Applications P.O. Box 358994 Pittsburgh, PA 15251-5994.
e. Renewal Only | 605 & 159 | 60.00 | PAAR * | Federal Communications Commission Wireless Bureau Applications P.O. Box 358245 Pittsburgh, PA 15251-5245.
f. Renewal (Electronic Filing) | 605 & 159 | 60.00 | PAAR * | Federal Communications Commission Wireless Bureau Applications P.O. Box 358994 Pittsburgh, PA 15251-5994.
g. Renewal Only Non-Profit | 605 & 159 | 60.00 | PAAM | Federal Communications Commission Wireless Bureau Applications P.O. Box 358245 Pittsburgh, PA 15251-5245.
h. Renewal; Renewal/Modification Non-Profit (Electronic Filing) | 605 & 159 | 60.00 | PAAM | Federal Communications Commission Wireless Bureau Applications P.O. Box 358994 Pittsburgh, PA 15251-5994.
i. Duplicate License | 605 & 159 | 60.00 | PADM | Federal Communications Commission Wireless Bureau Applications P.O. Box 358130 Pittsburgh, PA 15251-5130.
j. Duplicate License (Electronic Filing) | 605 & 159 | 60.00 | PADM | Federal Communications Commission Wireless Bureau Applications P.O. Box 358994 Pittsburgh, PA 15251-5994.
k. Rule Waiver | 605 & 159 | 170.00 | PDWM | Federal Communications Commission Wireless Bureau Applications P.O. Box 358130 Pittsburgh, PA 15251-5130.
l. Rule Waiver (Electronic Filing) | 605 & 159 | 170.00 | PDWM | Federal Communications Commission Wireless Bureau Applications P.O. Box 358994 Pittsburgh, PA 15251-5994.
5. Private Operational Fixed Microwave and Private DEMS:
a. New; Renewal/Modification | 601 & 159 | 245.00 | PEOR * | Federal Communications Commission Wireless Bureau Applications P.O. Box 358130 Pittsburgh, PA 15251-5130.
b. New; Renewal/Modification (Electronic Filing) | 601 & 159 | 245.00 | PEOR * | Federal Communications Commission Wireless Bureau Applications P.O. Box 358994 Pittsburgh, PA 15251-5994.
c. Modification; Consolidate Call Signs; Non-Profit | 601 & 159 | 245.00 | PEOM | Federal Communications Commission Wireless Bureau Applications P.O. Box 358130 Pittsburgh, PA 15251-5130.
d. Modification; Consolidate Call Signs; Non-Profit (Electronic Filing) | 601 & 159 | 245.00 | PEOM | Federal Communications Commission Wireless Bureau Applications P.O. Box 358994 Pittsburgh, PA 15251-5994.
e. Renewal Only | 601 & 159 | 245.00 | PEOR * | Federal Communications Commission Wireless Bureau Applications P.O. Box 358245 Pittsburgh, PA 15251-5245.
f. Renewal (Electronic Filing) | 601 & 159 | 245.00 | PEOR* | Federal Communications Commission Wireless Bureau Applications P.O. Box 358994 Pittsburgh, PA 15251-5994.
g. Renewal Only Non-Profit | 601 & 159 | 245.00 | PEOM | Federal Communications Commission Wireless Bureau Applications P.O. Box 358245 Pittsburgh, PA 15251-5245.
h. Renewal Non-Profit (Electronic Filing) | 601 & 159 | 245.00 | PEOM | Federal Communications Commission Wireless Bureau Applications P.O. Box 358994 Pittsburgh, PA 15251-5994.
i. Assignment | 603 & 159 | 245.00 | PEOM | Federal Communications Commission Wireless Bureau Applications P.O. Box 358130 Pittsburgh, PA 15251-5130.
j. Assignment (Electronic Filing) | 603 & 159 | 245.00 | PEOM | Federal Communications Commission Wireless Bureau Applications P.O. Box 358994 Pittsburgh, PA 15251-5994.
k. Transfer of Control; Spectrum Leasing | 603 & 159 603-T/608 ** & 159 | 60.00 | PATM | Federal Communications Commission Wireless Bureau Applications P.O. Box 358130 Pittsburgh, PA 15251-5130.
l. Transfer of Control; Spectrum Leasing (Electronic Filing) | 603 & 159 603-T/608 ** & 159 | 60.00 | PATM | Federal Communications Commission Wireless Bureau Applications P.O. Box 358994 Pittsburgh, PA 15251-5994.
m. Duplicate License | 601 & 159 | 60.00 | PADM | Federal Communications Commission Wireless Bureau Applications P.O. Box 358130 Pittsburgh, PA 15251-5130.
n. Duplicate License (Electronic Filing) | 601 & 159 | 60.00 | PADM | Federal Communications Commission Wireless Bureau Applications P.O. Box 358994 Pittsburgh, PA 15251-5994.
o. Special Temporary Authority | 601 & 159 | 60.00 | PAOM | Federal Communications Commission Wireless Bureau Applications P.O. Box 358130 Pittsburgh, PA 15251-5130.
p. Special Temporary Authority (Electronic Filing) | 601 & 159 | 60.00 | PAOM | Federal Communications Commission Wireless Bureau Applications P.O. Box 358994 Pittsburgh, PA 15251-5994.
q. Rule Waiver | 601, 603 or 603-T/608 ** & 159 | 170.00 | PDWM | Federal Communications Commission Wireless Bureau Applications P.O. Box 358130 Pittsburgh, PA 15251-5130.
r. Rule Waiver (Electronic Filing) | 601, 603 or 603-T/608 ** & 159 | 170.00 | PDWM | Federal Communications Commission Wireless Bureau Applications P.O. Box 358994 Pittsburgh, PA 15251-5994.
s. Modification for Spectrum Leasing | 608 ** & 159 | 245.00 | PEOM | Federal Communications Commission Wireless Bureau Applications P.O. Box 358130 Pittsburgh, PA 15251-5130.
t. Modification for Spectrum Leasing (Electronic Filing) | 608 ** & 159 | 245.00 | PEOM | Federal Communications Commission Wireless Bureau Applications P.O. Box 358994 Pittsburgh, PA 15251-5994.
6. Land Mobile PMRS; Intelligent Transportation Service:
a. New or Renewal/Modification (Frequencies below 470 MHz (except 220 MHz) 902-928 MHz & RS) | 601 & 159 | 60.00 | PALR * | Federal Communications Commission Wireless Bureau Applications P.O. Box 358130 Pittsburgh, PA 15251-5130.
b. New; Renewal/Modification (Frequencies below 470 MHz (except 220 MHz)) (Electronic Filing) | 601 & 159 | 60.00 | PALR * | Federal Communications Commission Wireless Bureau Applications P.O. Box 358994 Pittsburgh, PA 15251-5994.
c. New; Renewal/Modification (Frequencies 470 MHz and above and 220 MHz Local) | 601 & 159 | 60.00 | PALS * | Federal Communications Commission Wireless Bureau Applications P.O. Box 358130 Pittsburgh, PA 15251-5130.
d. New; Renewal/Modification (Frequencies 470 MHz and above and 220 MHz Local) (Electronic Filing) | 601 & 159 | 60.00 | PALS * | Federal Communications Commission Wireless Bureau Applications P.O. Box 358994 Pittsburgh, PA 15251-5994.
e. New; Renewal/Modification (220 MHz Nationwide) | 601 & 159 | 60.00 | PALT * | Federal Communications Commission Wireless Bureau Applications P.O. Box 358130 Pittsburgh, PA 15251-5130.
f. New; Renewal/Modification (220 MHz Nationwide) (Electronic Filing) | 601 & 159 | 60.00 | PALT * | Federal Communications Commission Wireless Bureau Applications P.O. Box 358994 Pittsburgh, PA 15251-5994.
g. Modification; Non-Profit; For Profit Special Emergency and Public Safety; and CMRS | 601 & 159 | 60.00 | PALM | Federal Communications Commission Wireless Bureau Applications P.O. Box 358130 Pittsburgh, PA 15251-5130.
h. Modification; Non-Profit; For Profit Special Emergency and Public Safety; and CMRS (Electronic Filing) | 601 & 159 | 60.00 | PALM | Federal Communications Commission Wireless Bureau Applications P.O. Box 358994 Pittsburgh, PA 15251-5994.
i. Renewal Only | 601 & 159 | 60.00 60.00 60.00 | PALR * PALS * PALT * | Federal Communications Commission Wireless Bureau Applications P.O. Box 358245 Pittsburgh, PA 15251-5245.
j. Renewal (Electronic Filing) | 601 & 159 | 60.00 60.00 60.00 | PALR * PALS * PALT * | Federal Communications Commission Wireless Bureau Applications P.O. Box 358994 Pittsburgh, PA 15251-5994.
k. Renewal Only (Non-Profit; CMRS; For-Profit Special Emergency and Public Safety) | 601 & 159 | 60.00 | PALM | Federal Communications Commission Wireless Bureau Applications P.O. Box 358245 Pittsburgh, PA 15251-5245.
l. Renewal (Non-Profit; CMRS; For-Profit Special Emergency and Public Safety) (Electronic Filing) | 601 & 159 | 60.00 | PALM | Federal Communications Commission Wireless Bureau Applications P.O. Box 358994 Pittsburgh, PA 15251-5994.
m. Assignment of Authorization (PMRS & CMRS) | 603 & 159 | 60.00 | PALM | Federal Communications Commission Wireless Bureau Applications P.O. Box 358130 Pittsburgh, PA 15251-5130.
n. Assignment of Authorization (PMRS & CMRS) (Electronic Filing) | 603 & 159 | 60.00 | PALM | Federal Communications Commission Wireless Bureau Applications P.O. Box 358994 Pittsburgh, PA 15251-5994.
o. Transfer of Control (PMRS & CMRS); Spectrum Leasing | 603 & 159 603-T/608 ** & 159 | 60.00 60.00 | PATM PATM | Federal Communications Commission Wireless Bureau Applications P.O. Box 358130 Pittsburgh, PA 15251-5130.
p. Transfer of Control (PMRS & CMRS); Spectrum Leasing (Electronic Filing) | 603 & 159 603-T/608 ** & 159 | 60.00 60.00 | PATM PATM | Federal Communications Commission Wireless Bureau Applications P.O. Box 358994 Pittsburgh, PA 15251-5994.
q. Duplicate License | 601 & 159 | 60.00 | PADM | Federal Communications Commission Wireless Bureau Applications P.O. Box 358130 Pittsburgh, PA 15251-5130.
r. Duplicate License (Electronic Filing) | 601 & 159 | 60.00 | PADM | Federal Communications Commission Wireless Bureau Applications P.O. Box 358994 Pittsburgh, PA 15251-5994.
s. Special Temporary Authority | 601 & 159 | 60.00 | PALM | Federal Communications Commission Wireless Bureau Applications P.O. Box 358130 Pittsburgh, PA 15251-5130.
t. Special Temporary Authority (Electronic Filing) | 601 & 159 | 60.00 | PALM | Federal Communications Commission Wireless Bureau Applications P.O. Box 358994 Pittsburgh, PA 15251-5994.
u. Rule Waiver | 601, 603 or 603-T/608 ** & 159 | 170.00 | PDWM | Federal Communications Commission Wireless Bureau Applications P.O. Box 358130 Pittsburgh, PA 15251-5130.
v. Rule Waiver (Electronic Filing) | 601, 603 or 603-T/608 ** & 159 | 170.00 | PDWM | Federal Communications Commission Wireless Bureau Applications P.O. Box 358994 Pittsburgh, PA 15251-5994.
w. Consolidate Call Signs | 601 & 159 | 60.00 | PALM | Federal Communications Commission Wireless Bureau Applications P.O. Box 358130 Pittsburgh, PA 15251-5130.
x. Consolidate Call Signs (Electronic Filing) | 601 & 159 | 60.00 | PALM | Federal Communications Commission Wireless Bureau Applications P.O. Box 358994 Pittsburgh, PA 15251-5994.
y. Modification for Spectrum Leasing | 608 ** & 159 | 60.00 | PALM | Federal Communications Commission Wireless Bureau Applications P.O. Box 358130 Pittsburgh, PA 15251-5130.
z. Modification for Spectrum Leasing (Electronic Filing) | 608 ** & 159 | 60.00 | PALM | Federal Communications Commission Wireless Bureau Applications P.O. Box 358994 Pittsburgh, PA 15251-5994.
7. 218-219 MHz (previously IVDS):
a. New; Renewal/Modification | 601 & 159 | 60.00 | PAIR * | Federal Communications Commission Wireless Bureau Applications P.O. Box 358130 Pittsburgh, PA 15251-5130.
b. New; Renewal/Modification (Electronic Filing) | 601 & 159 | 60.00 | PAIR * | Federal Communications Commission Wireless Bureau Applications P.O. Box 358994 Pittsburgh, PA 15251-5994.
c. Modification; Non-Profit | 601 & 159 | 60.00 | PAIM | Federal Communications Commission Wireless Bureau Applications P.O. Box 358130 Pittsburgh, PA 15251-5130.
d. Modification; Non-Profit (Electronic Filing) | 601 & 159 | 60.00 | PAIM | Federal Communications Commission Wireless Bureau Applications P.O. Box 358994 Pittsburgh, PA 15251-5994.
e. Renewal Only | 601 & 159 | 60.00 | PAIR * | Federal Communications Commission Wireless Bureau Applications P.O. Box 358245 Pittsburgh, PA 15251-5245
f. Renewal (Electronic Filing) | 601 & 159 | 60.00 | PAIR* | Federal Communications Commission Wireless Bureau Applications P.O. Box 358994 Pittsburgh, PA 15251-5994.
g. Assignment of Authorization | 603 & 159 | 60.00 | PAIM | Federal Communications Commission Wireless Bureau Applications P.O. Box 358130 Pittsburgh, PA 15251-5130.
h. Assignment of Authorization (Electronic Filing) | 603 & 159 | 60.00 | PAIM | Federal Communications Commission Wireless Bureau Applications P.O. Box 358994 Pittsburgh, PA 15251-5994.
i. Transfer of Control Spectrum Leasing (Electronic Filing) | 603 & 159 603-T/608 ** & 159 | 60.00 60.00 | PATM PATM | Federal Communications Commission Wireless Bureau Applications P.O. Box 358130 Pittsburgh, PA 15251-5130.
j. Transfer of Control Spectrum Leasing (Electronic Filing) | 603 & 159 603-T/608** & 159 | 60.00 60.00 | PATM PATM | Federal Communication Commission Wireless Bureau Applications P.O. Box 358994 Pittsburgh, PA 15251-5994.
k. Duplicate License | 601 & 159 | 60.00 | PADM | Federal Communications Commission Wireless Bureau Applications P.O. Box 358130 Pittsburgh, PA 15251-5130.
l. Duplicate License (Electronic Filing) | 601 & 159 | 60.00 | PADM | Federal Communications Commission Wireless Bureau Applications P.O. Box 358994 Pittsburgh, PA 15251-5994.
m. Special Temporary Authority | 601 & 159 | 60.00 | PAIM | Federal Communications Commission Wireless Bureau Applications P.O. Box 358130 Pittsburgh, PA 15251-5130.
n. Special Temporary Authority (Electronic Filing) | 601 & 159 | 60.00 | PAIM | Federal Communications Commission Wireless Bureau Applications P.O. Box 358994 Pittsburgh, PA 15251-5994.
o. Modification for Spectrum Leasing | 608** & 159 | 60.00 | PAIM | Federal Communications Commission Wireless Bureau Applications P.O. Box 358130 Pittsburgh, PA 15251-5130.
p. Modification for Spectrum Leasing (Electronic Filing) | 608 ** & 159 | 60.00 | PAIM | Federal Communications Commission Wireless Bureau Applications P.O. Box 358994 Pittsburgh, PA 15251-5994.
8. General Mobile Radio (GMRS):
a. New; Renewal/Modification | 605 & 159 | 60.00 | PAZR * | Federal Communications Commission Wireless Bureau Applications P.O. Box 358130 Pittsburgh, PA 15251-5130.
b. New; Renewal/Modification (Electronic Filing) | 605 & 159 | 60.00 | PAZR * | Federal Communications Commission Wireless Bureau Applications P.O. Box 358994 Pittsburgh, PA 15251-5994.
c. Modification | 605 & 159 | 60.00 | PAZM | Federal Communications Commission Wireless Bureau Applications P.O. Box 358130 Pittsburgh, PA 15251-5130.
d. Modification (Electronic Filing) | 601 & 159 | 60.00 | PAZM | Federal Communications Non-Profit Commission Wireless Bureau Applications P.O. Box 358994 Pittsburgh, PA 15251-5994.
e. Renewal Only | 601 & 159 | 60.00 | PAZR * | Federal Communications Commission Wireless Bureau Applications P.O. Box 358245 Pittsburg, PA 15251-5245.
f. Renewal (Electronic Filing) | 605 & 159 | 60.00 | PAZR * | Federal Communications Commission Wireless Bureau Applications P.O. Box 358994 Pittsburgh, PA 15251-5994.
g. Duplicate License | 605 & 159 | 60.00 | PADM | Federal Communications Commission Wireless Bureau Applications P.O. Box 358130 Pittsburgh, PA 15251-5130.
h. Duplicate License (Electronic Filing) | 605 & 159 | 60.00 | PADM | Federal Communications Commission Wireless Bureau Applications P.O. Box 358994 Pittsburgh, PA 15251-5994.
i. Special Temporary Authority | 605& 159 | 60.00 | PAZM | Federal Communications Commission Wireless Bureau Applications P.O. Box 358130 Pittsburgh, PA 15251-5130.
j. Special Temporary Authority (Electronic Filing) | 605 & 159 | 60.00 | PAZM | Federal Communications Commission Wireless Bureau Applications P.O. Box 358994 Pittsburgh, PA 15251-5994.
k. Rule Waiver | 605 & 159 | 170.00 | PDWM | Federal Communications Commission Wireless Bureau Applications P.O. Box 358130 Pittsburgh, PA 15251-5130.
l. Rule Waiver (Electronic Filing) | 605 & 159 | 170.00 | PDWM | Federal Communications Commission Wireless Bureau Applications P.O. Box 358994 Pittsburgh, PA 15251-5994.
9. Restricted Radiotelephone:
a. New (Lifetime Permit) New (Limited Use) | 605 & 159 605 & 159 | 60.00 | PARR | Federal Communications Commission Wireless Bureau Applications P.O. Box 358245 Pittsburgh, PA 15251-5245.
b. Duplicate/Replacement Permit Duplicate/Replacement Permit (Limited Use) | 605 & 159 605 & 159 | 60.00 60.00 | PADM PADM | Federal Communications Commission Wireless Bureau Applications P.O. Box 358245 Pittsburgh, PA 15251-5245.
10. Commercial Radio Operator:
a. Renewal Only; Renewal/Modification | 605 & 159 | 60.00 | PACS | Federal Communications Commission Wireless Bureau Applications P.O. Box 358245 Pittsburgh, PA 15251-5245.
b. Duplicate | 605 & 159 | 60.00 | PADM | Federal Communications Commission Wireless Bureau Applications P.O. Box 358130 Pittsburgh, PA 15251-5130.
11. Hearing | Corres & 159 | 10,680.00 | PFHM | Federal Communications Commission Wireless Bureau Applications P.O. Box 358130 Pittsburgh, PA 15251-5130.
12. Common Carrier Microwave: (Pt. To Pt., Local TV Trans. & Millimeter Wave Service):
a. New; Renewal/Modification (Electronic Filing Required) | 601 & 159 | 245.00 | CJPR * | Federal Communications Commission Wireless Bureau Applications P.O. Box 358994 Pittsburgh, PA 15251-5994.
b. Major Modification; Consolidate Call Signs (Electronic Filing Required) | 601 & 159 | 245.00 | CJPM | Federal Communications Commission Wireless Bureau Applications P.O. Box 358994 Pittsburgh, PA 15251-5994.
c. Renewal (Electronic Filing Required) | 601 & 159 | 245.00 | CJPR* | Federal Communications Commission Wireless Bureau Applications P.O. Box 358994 Pittsburgh, PA 15251-5994.
d. Assignment of Authorization; Transfer of Control: Spectrum Leasing Additional Stations (Electronic Filing Required) | 603 & 159 603-T/608 ** & 159 603 or 603-T/608 ** & 159 | 90.00 90.00 60.00 | CCPM CCPM CAPM | Federal Communications Commission Wireless Bureau Applications P.O. Box 358994 Pittsburgh, PA 15251-5994.
e. Duplicate License (Electronic Filing Required) | 601 & 159 | 60.00 | PADM | Federal Communications Commission Wireless Bureau Applications P.O. Box 358994 Pittsburgh, PA 15251-5994.
f. Extension of Construction Authority (Electronic Filing Required) | 601 & 159 | 90.00 | CCPM | Federal Communications Commission Wireless Bureau Applications P.O. Box 358994 Pittsburgh, PA 15251-5994.
g. Special Temporary Authority | 601 & 159 | 115.00 | CEPM | Federal Communications Commission Wireless Bureau Applications P.O. Box 358130 Pittsburgh, PA 15251-5130.
h. Special Temporary Authority (Electronic Filing) | 601 & 159 | 115.00 | CEPM | Federal Communications Commission Wireless Bureau Applications P.O. Box 358994 Pittsburgh, PA 15251-5994.
i. Major Modification for Spectrum Leasing (Electronic Filing Required) | 608 ** & 159 | 245.00 | CJPM | Federal Communications Commission Wireless Bureau Applications P.O. Box 358994 Pittsburgh, PA 15251-5994.
13. Common Carrier Microwave (DEMS):
a. New; Renewal/Modification (Electronic Filing Required) | 601 & 159 | 245.00 | CJLR * | Federal Communications Commission Wireless Bureau Applications P.O. Box 358994 Pittsburgh, PA 15251-5994.
b. Major Modification; Consolidate Call Signs (Electronic Filing Required) | 601 & 159 | 245.00 | CJLM | Federal Communications Commission Wireless Bureau Applications P.O. Box 358994 Pittsburgh, PA 15251-5994.
c. Renewal (Electronic Filing Required) | 601 & 159 | 245.00 | CJLR * | Federal Communications Commission Wireless Bureau Applications P.O. Box 358994 Pittsburgh, PA 15251-5994.
d. Assignment of Authorization; Transfer of Control; Spectrum Leasing Additional Stations (Electronic Filing Required) | 603 & 159 603-T/608 ** & 159 603 or 603-T/608 ** & 159 | 90.00 90.00 60.00 | CCLM CCLM CALM | Federal Communications Commission Wireless Bureau Applications P.O. Box 358994 Pittsburgh, PA 15251-5994.
e. Duplicate License (Electronic Filing Required) | 601 & 159 | 60.00 | PADM | Federal Communications Commission Wireless Bureau Applications P.O. Box 358994 Pittsburgh, PA 15251-5994.
f. Extension of Construction Authority (Electronic Filing Required) | 601 & 159 | 90.00 | CCLM | Federal Communications Commission Wireless Bureau Applications P.O. Box 358994 Pittsburgh, PA 15251-5994.
g. Special Temporary Authority | 601 & 159 | 115.00 | CELM | Federal Communications Commission Wireless Bureau Applications P.O. Box 358130 Pittsburgh, PA 15251-5130.
h. Special Temporary Authority (Electronic Filing) | 601 & 159 | 115.00 | CELM | Federal Communications Commission Wireless Bureau Applications P.O. Box 358994 Pittsburgh, PA 15251-5994.
i. Major Modification for Spectrum Leasing (Electronic Filing Required) | 608 ** & 159 | 90.00 | CJLM | Federal Communications Commission Wireless Bureau Applications P.O. Box 358994 Pittsburgh, PA 15251-5994.
14. Broadcast Auxiliary (Aural and TV Microwave):
a. New; Modification; Renewal/Modification | 601 & 159 | 135.00 | MEA | Federal Communications Commission Wireless Bureau Applications P.O. Box 358130 Pittsburgh, PA 15251-5130.
b. New; Modification; Renewal/Modification (Electronic Filing) | 601 & 159 | 135.00 | MEA | Federal Communications Commission Wireless Bureau Applications P.O. Box 358994 Pittsburgh, PA 15251-5994.
c. Special Temporary Authority | 601 & 159 | 160.00 | MGA | Federal Communications Commission Wireless Bureau Applications P.O. Box 358130 Pittsburgh, PA 15251-5130.
d. Special Temporary Authority (Electronic Filing) | 601 & 159 | 160.00 | MGA | Federal Communications Commission Wireless Bureau Applications P.O. Box 358994 Pittsburgh, PA 15251-5994.
e. Renewal Only | 601 & 159 | 60.00 | MAA | Federal Communications Commission Wireless Bureau Applications P.O. Box 358245 Pittsburgh, PA 15251-5245.
f. Renewal (Electronic Filing) | 601 & 159 | 60.00 | MAA | Federal Communications Commission Wireless Bureau Applications P.O. Box 358994 Pittsburgh, PA 15251-5994.
15. Broadcast Auxiliary (Remote and Low Power):
a. New; Modification; Renewal/Modification | 601 & 159 | 135.00 | MEA | Federal Communications Commission Wireless Bureau Applications P.O. Box 358130 Pittsburgh, PA 15251-5130.
b. New; Modification; Renewal/Modification (Electronic Filing) | 601 & 159 | 135.00 | MEA | Federal Communications Commission Wireless Bureau Applications P.O. Box 358994 Pittsburgh, PA 15251-5994.
c. Renewal Only | 601 & 159 | 60.00 | MAA | Federal Communications Commission Wireless Bureau Applications P.O. Box 358245 Pittsburgh, PA 15251-5245.
d. Renewal (Electronic Commission Filing) | 601 & 159 | 60.00 | MAA | Federal Communications Commission Wireless Bureau Applications P.O. Box 358994 Pittsburgh, PA 15251-5994.
e. Special Temporary Authority | 601 & 159 | 160.00 | MGA | Federal Communications Commission Wireless Bureau Applications P.O. Box 358130 Pittsburgh, PA 15251-5130.
f. Special Temporary Authority (Electronic Filing) | 601 & 159 | 160.00 | MGA | Federal Communications Commission Wireless Bureau Applications P.O. Box 358994 Pittsburgh, PA 15251-5994.
16. Pt 22 Paging & Radiotelephone:
a. New; Major Mod; Additional Facility; Major Amendment; Major Renewal/Mod; Fill in Transmitter (Per Transmitter) (Electronic Filing Required) | 601 & 159 | 365.00 | CMD | Federal Communications Commission Wireless Bureau Applications P.O. Box 358994 Pittsburgh, PA 15251-5994.
b. Minor Mod; Renewal; Minor Renewal/Mod; (Per Call Sign) 900 MHz Nationwide Renewal Net Organ; New Operator (Per Operator/Per City) Notice of Completion of Construction or Extension of Time to Construct (Per Application) (Electronic Filing Required) | 601 & 159 | 60.00 | CAD | Federal Communications Commission Wireless Bureau Applications P.O. Box 358994 Pittsburgh, PA 15251-5994.
c. Auxiliary Test (Per Transmitter); Consolidate Call Signs (Per Call Sign) (Electronic Filing Required) | 601 & 159 | 320.00 | CLD | Federal Communications Commission Wireless Bureau Applications P.O. Box 358994 Pittsburgh, PA 15251-5994.
d. Special Temporary Authority (Per Location/Per Frequency) | 601 & 159 | 320.00 | CLD | Federal Communications Commission Wireless Bureau Applications P.O. Box 358130 Pittsburgh, PA 15251-5130.
e. Special Temporary Authority (Per Location/Per Frequency) (Electronic Filing) | 601 & 159 | 320.00 | CLD | Federal Communications Commission Wireless Bureau Applications P.O. Box 358994 Pittsburgh, PA 15251-5994.
f. Assignment of License or Transfer of Control; Spectrum Leasing (Full or Partial) (Per First Call Sign); Additional Call Signs (Per Call Signs) (Electronic Filing Required) | 603 & 159 603-T/608 ** & 159 603 or 603-T/608** & 159 | 365.00 365.00 60.00 | CMD CMD CAD | Federal Communications Commission Wireless Bureau Applications P.O. Box 358994 Pittsburgh, PA 15251-5994.
g. Subsidiary Comm. Service (Per Request) (Electronic Filing Required) | 601 & 159 | 160.00 | CFD | Federal Communications Commission Wireless Bureau Applications P.O. Box 358994 Pittsburgh, PA 15251-5994.
h. Major Modification for Spectrum Leasing (Electronic Filing Required) | 608 ** & 159 | 365.00 | CMD | Federal Communications Commission Wireless Bureau Applications P.O. Box 358994 Pittsburgh, PA 15251-5994.
i. Minor Modification for Spectrum Leasing (Electronic Filing Required) | 608 ** & 159 | 60.00 | CAD | Federal Communications Commission Wireless Bureau Applications P.O. Box 358994 Pittsburgh, PA 15251-5994.
17. Cellular:
a. New; Major Mod; Additional Facility; Major Renewal/Mod (Per Call Sign) (Electronic Filing Required) | 601 & 159 | 365.00 | CMC | Federal Communications Commission Wireless Bureau Applications P.O. Box 358994 Pittsburgh, PA 15251-5994.
b. Minor Modification; Minor Renewal/Mod (Per Call Sign) (Electronic Filing Required) | 601 & 159 | 95.00 | CDC | Federal Communications Commission Wireless Bureau Applications P.O. Box 358994 Pittsburgh, PA 15251-5994.
c. Assignment of License; Transfer of Control (Full or Partial) (Per Call Sign) Spectrum Leasing (Electronic Filing Rquired) | 603 & 159 603-T/608 ** & 159 | 365.00 | CMC | Federal Communications Commission Wireless Bureau Applications P.O. Box 358994 Pittsburgh, PA 15251-5994.
d. Notice of Extension of Time to Complete Construction; (Per Request) Renewal (Per Call Sign) (Electronic Filing Required) | 601 & 159 | 60.00 | CAC | Federal Communications Commission Wireless Bureau Applications P.O. Box 358994 Pittsburgh, PA 15251-5994.
e. Special Temporary Authority (Per Request) | 601 & 159 | 320.00 | CLC | Federal Communications Commission Wireless Bureau Applications P.O. Box 358130 Pittsburgh, PA 15251-5130.
f. Special Temporary Authority (Per Request) (Electronic Filing) | 601 & 159 | 320.00 | CLC | Federal Communications Commission Wireless Bureau Applications P.O. Box 358994 Pittsburgh, PA 15251-5994.
g. Combining Cellular Geographic Areas (Per Area) (Electronic Filing Required) | 601 & 159 | 80.00 | CBC | Federal Communications Commission Wireless Bureau Applications P.O. Box 358994 Pittsburgh, PA 15251-5994.
h. Major Modification for Spectrum Leasing (Electronic Filing Required) | 608 ** & 159 | 365.00 | CMC | Federal Communications Commission Wireless Bureau Applications P.O. Box 358994 Pittsburgh, PA 15251-5994.
i. Minor Modification for Spectrum Leasing (Electronic Filing Required) | 608 ** & 159 | 95.00 | CDC | Federal Communications Commission Wireless Bureau Applications P.O. Box 358994 Pittsburgh, PA 15251-5994.
18. Rural Radio:
a. New; Major Renew/Mod; Additional Facility (Per Transmitter) (Electronic Filing Required) | 601 & 159 | 170.00 | CGRR * | Federal Communications Commission Wireless Bureau Applications P.O. Box 358994 Pittsburgh, PA 15251-5994.
b. Major Mod; Major Amendment (Per Transmitter) (Electronic Filing Required) | 601 & 159 | 170.00 | CGRM | Federal Communications Commission Wireless Bureau Applications P.O. Box 358994 Pittsburgh, PA 15251-5994.
c. Minor Modification; (Per Transmitter) (Electronic Filing Required) | 601 & 159 | 60.00 | CARM | Federal Communications Commission Wireless Bureau Applications P.O. Box 358994 Pittsburgh, PA 15251-5994.
d. Assignment of License; Transfer of Control (Full or Partial) (Per Call Sign) Spectrum Leasing Additional Calls (Per Call Sign) (Electronic Filing Required) | 603 & 159 603-T/608 ** & 159 603 or 603-T/608 ** & 159 | 170.00 170.00 60.00 | CGRM CGRM CARM | Federal Communications Commission Wireless Bureau Applications P.O. Box 358994 Pittsburgh, PA 15251-5994.
e. Renewal (Per Call Sign); Minor Renewal/Mod (Per Transmitter) (Electronic Filing Required) | 601 & 159 | 60.00 | CARR * | Federal Communications Commission Wireless Bureau Applications P.O. Box 358994 Pittsburgh, PA 15251-5994.
f. Notice of Completion of Construction Extension of Time to Construct (Per Application) (Electronic Filing Required) | 601 & 159 | 60.00 | CARM | Federal Communications Commission Wireless Bureau Applications P.O. Box 358994 Pittsburgh, PA 15251-5994.
g. Special Temporary Authority (Per Transmitter) | 601 & 159 | 320.00 | CLRM | Federal Communications Commission Wireless Bureau Applications P.O. Box 358994 Pittsburgh, PA 15251-5994.
h. Special Temporary Authority (Per Transmitter) (Electronic Filing) | 601 & 159 | 320.00 | CLRM | Federal Communications Commission Wireless Bureau Applications P.O. Box 358994 Pittsburgh, PA 15251-5994.
i. Combining Call Signs (Per Call Sign) (Electronic Filing Required) | 601 & 159 | 320.00 | CLRM | Federal Communications Commission Wireless Bureau Applications P.O. Box 358994 Pittsburgh, PA 15251-5994.
j. Auxiliary Test Station (Per Transmitter) (Electronic Filing Required) | 601 & 159 | 320.00 | CLRM | Federal Communications Commission Wireless Bureau Applications P.O. Box 358994 Pittsburgh, PA 15251-5994.
k. Major Modification for Spectrum Leasing (Electronic Filing Required) | 608 ** & 159 | 170.00 | CGRM | Federal Communications Commission Wireless Bureau Applications P.O. Box 358994 Pittsburgh, PA 15251-5994.
l. Minor Modification for Spectrum Leasing (Electronic Filing Required) | 608 ** & 159 | 60.00 | CARM | Federal Communications Commission Wireless Bureau Applications P.O. Box 358994 Pittsburgh, PA 15251-5994.
19. Offshore Radio:
a. New; Major Mod; Additional Facility; Major Amendment; Major Renew/Mod; Fill in Transmitters (Per Transmitter) (Electronic Filing Required) | 601 & 159 | 170.00 | CGF | Federal Communications Commission Wireless Bureau Applications P.O. Box 358994 Pittsburgh, PA 15251-5994.
b. Consolidate Call Signs (Per Call Sign); Auxiliary Test (Per Transmitter) (Electronic Filing Required) | 601 & 159 | 320.00 | CLF | Federal Communications Commission Wireless Bureau Applications P.O. Box 358994 Pittsburgh, PA 15251-5994.
c. Minor Modification; Minor Renewal/Modification (Per Transmitter); Notice of Completion of Construction or Extension of Time to Construct (Per Application); Renewal (Per Call Sign) (Electronic Filing Required) | 601 & 159 | 60.00 | CAF | Federal Communications Commission Wireless Bureau Applications P.O. Box 358994 Pittsburgh, PA 15251-5994.
d. Assignment of License; Transfer of Control (Full or Partial) Spectrum Leasing Additional Calls (Electronic Filing Required) | 603 & 159 603-T/608 ** & 159 603 or 603-T/608 ** & 159 | 170.00 170.00 60.00 | CGF CGF CAF | Federal Communications Commission. Wireless Bureau Applications P.O. Box 358994 Pittsburgh, PA 15251-5994.
e. Special Temporary Authority (Per Transmitter) | 601 & 159 | 320.00 | CLF | Federal Communications Commission Wireless Bureau Applications P.O. Box 358130 Pittsburgh, PA 15251-5130.
f. Special Temporary Authority (Per Transmitter) (Electronic Filing) | 601 & 159 | 320.00 | CLF | Federal Communications Commission Wireless Bureau Applications P.O. Box 3548994 Pittsburgh, PA 15251-5994.
g. Major Modification for Spectrum Leasing (Electronic Filing Required) | 608 ** & 159 | 170.00 | CGF | Federal Communications Commission Wireless Bureau Applications P.O. Box 358994 Pittsburgh, PA 15251-5994.
h. Minor Modification for Spectrum Leasing (Electronic Filing Required) | 608 ** & 159 | 60.00 | CAF | Federal Communications Commission Wireless Bureau Applications P.O. Box 358994 Pittsburgh, PA 15251-5994.
20. Broadband Radio Service (Previously Multipoint Distribution Service):
a. New station (Electronic Filing Required) | 601 & 159 | 245.00 | CJM | Federal Communications Commission Wireless Bureau Applications P.O. Box 358994 Pittsburgh, PA 15251-5130.
b. Major Modification of Licenses (Electronic Filing Required) | 601 & 159 | 245.00 | CJM | Federal Communications Commission Wireless Bureau Applications P.O. Box 358994 Pittsburgh, PA 15251-5130.
c. Certification of Completion of Construction (Electronic Filing Required) | 601 & 159 | 720.00 | CPM * | Federal Communications Commission Wireless Bureau Applications P.O. Box 358994 Pittsburgh, PA 15251-5130.
d. License Renewal (Electronic Filing Required) | 601 & 159 | 245.00 | CJM | Federal Communications Commission Wireless Bureau Applications P.O. Box 358994 Pittsburgh, PA 15251-5130.
e. Assignment of Authorization; Transfer of Control (first station) (Electronic Filing Required) Spectrum Leasing (first station) Additional Station | 603 & 159 603-T/608 ** & 159 603-T/608 ** & 159 | 90.00 90.00 60.00 | CCM CCM CAM | Federal Communications Commission Wireless Bureau Applications P.O. Box 358994 Pittsburgh, PA 15251-5130.
f. Extension of Construction Authorization (Electronic Filing Required) | 601 & 159 | 210.00 | CHM | Federal Communications Commission Wireless Bureau Applications P.O. Box 358994 Pittsburgh, PA 15251-5130.
g. Special Temporary Authority or Request for Waiver of Prior Construction Authorization (Electronic Filing) | 601 & 159 | 115.00 | CEM | Federal Communications Commission Wireless Bureau Applications P.O. Box 358994 Pittsburgh, PA 15251-5130.
h. Special Temporary Authority | 601 & 159 | 115.00 | CEM | Federal Communications Commission Wireless Bureau Applications P.O. Box 358994 Pittsburgh, PA 15251-5130.
i. Major Modification for Spectrum Leasing (Electronic Filing Required) | 608** & 159 | 245.00 | CJM | Federal Communications Commission Wireless Bureau Applications P.O. Box 358994 Pittsburgh, PA 15251-5130.
21. Communication Assistance for Law Enforcement (CALEA) Petitions: | Corres & 159 | 5,605.00 | CALA | Federal Communications Commission Wireless Bureau Applications P.O. Box 358130 Pittsburgh, PA 15251-5130.
** FCC Form 608, which is pending OMB approval, will upon its effective date replace FCC Form 603-T, as noted in § 1.1102, above.

3. Section 1.1103 is revised to read as follows:

§ 1.1103 Schedule of charges for equipment approval, experimental radio services, and international telecommunications settlement services.

Service | FCC form No. | Fee amount | Payment type code | Address
1. Certification:
a. Receivers (except TV and FM) (Electronic Filing Only) | 731 & 159 | 455.00 | EEC | Federal Communications Commission Equipment Approval Services P.O. Box 358315 Pittsburgh, PA 15251-5315.
b. Devices Under Parts 11, 15 & 18 (except receivers) (Electronic Filing Only) | 731 & 159 | 1,165.00 | EGC | Federal Communications Commission Equipment Approval Services P.O. Box 358315 Pittsburgh, PA 15251-5315.
c. All Other Devices (Electronic Filing Only) | 731 & 159 | 585.00 | EFT | Federal Communications Commission Equipment Approval Services P.O. Box 358315 Pittsburgh, PA 15251-5315.
d. Modifications and Class II Permissive Changes (Electronic Filing Only) | 731 & 159 | 60.00 | EAC | Federal Communications Commission Equipment Approval Services P.O. Box 358315 Pittsburgh, PA 15251-5315.
e. Request for Confidentiality under Certification (Electronic Filing Only) | 731 & 159 | 170.00 | EBC | Federal Communications Commission Equipment Approval Services P.O. Box 358315 Pittsburgh, PA 15251-5315.
f. Class III Permissive Changes (Electronic Filing Only) | 731 & 159 | 585.00 | ECC | Federal Communications Commission Equipment Approval Services P.O. Box 358315 Pittsburgh, PA 15251-5315.
2. Advance Approval of Subscription TV Systems: | Corres & 159 | 3,565.00 | EIS | Federal Communications Commission Equipment Approval Services P.O. Box 358315 Pittsburgh, PA 15251-5315.
a. Request for Confidentiality For Advance Approval of Subscription TV Systems | Corres & 159 | 170.00 | EBS | Federal Communications Commission Equipment Approval Services P.O. Box 358315 Pittsburgh, PA 15251-5315.
3. Assignment of Grantee Code:
a. For all Application Types, except Subscription TV (Electronic Filing Only—Optional Electronic Payment) | Electronic Assignment & Form 159 or Optional Electronic Payment | 60.00 | EAG | Federal Communications Commission Equipment Approval Services P.O. Box 358315 Pittsburgh, PA 15251-5315.
4. Experimental Radio Service:
a. New Station Authorization | 442 & 159 | 60.00 | EAE | Federal Communications Commission Equipment Radio Services P.O. Box 358320 Pittsburg, PA 15251-5320.
b. Modification of Authorization | 442 & 159 | 60.00 | EAE | Federal Communications Commission Equipment Radio Services P.O. Box 358320 Pittsburg, PA 15251-5320.
c. Renewal of Station Authorization | 405 & 159 | 60.00 | EAE | Federal Communications Commission Equipment Radio Services P.O. Box 358320 Pittsburg, PA 15251-5320.
d. Assignment of Transfer of Control | 702 & 159 or 703 & 159 | 60.00 | EAE | Federal Communications Commission Equipment Radio Services P.O. Box 358320 Pittsburg, PA 15251-5320.
e. Special Temporary Authority | Corres & 159 | 60.00 | EAE | Federal Communications Commission Equipment Radio Services P.O. Box 358320 Pittsburg, PA 15251-5320.
f. Additional fee required for any of the above applications that request withholding from public inspection | Corres & 159 | 60.00 | EAE | Federal Communications Commission Equipment Radio Services P.O. Box 358320 Pittsburg, PA 15251-5320.
5. International Telecommunications | 99 & 159 | 2.00 | IAT | Federal Communications Commission International Telecommunications Settlements P.O. Box 358001 Pittsburgh, PA 15251-5001.

4. Section 1.1104 is revised to read as follows:

§ 1.1104 Schedule of charges for applications and other filings for media services.

Those services designated with an asterisk in the Payment Type Code column accept multiples if filing in the same post office box.

Service | FCC form No. | Fee amount | Payment type code | Address
1. Commercial TV Services:
a. New and Major Change Construction Permits (per application) (Electronic Filing) | 301 & 159 | $4,005.00 | MVT | Federal Communications Commission Media Services P.O. Box 358165 Pittsburgh, PA 15251-5165.
b. Minor Change (per application) (Electronic Filing) | 301 & 159 | 895.00 | MPT | Federal Communications Commission Media Services P.O. Box 358165 Pittsburgh, PA 15251-5165.
c. Main Studio Request | Corres & 159 | 895.00 | MPT | Federal Communications Commission Media Services P.O. Box 358165 Pittsburgh, PA 15251-5165.
d. New License (per application) (Electronic Filing) | 302-TV & 159 302-DTV & 159 | 270.00 | MJT | Federal Communications Commission Media Services P.O. Box 358165 Pittsburgh, PA 15251-5165.
e. License Renewal (per application) (Electronic Filing) | 303-S & 159 | 160.00 | MGT | Federal Communications Commission Media Services P.O. Box 358165 Pittsburgh, PA 15251-5165.
f. License Assignment
(i) Long Form (Electronic Filing) | 314 & 159 | 895.00 | MPT * | Federal Communications Commission Media Services P.O. Box 358350 Pittsburgh, PA 15251-5350.
(ii) Short Form (Electronic Filing) | 316 & 159 | 130.00 | MDT * | Federal Communications Commission Media Services P.O. Box 358350 Pittsburgh, PA 15251-5350.
g. Transfer of Control
(i) Long Form (Electronic Filing) | 315 & 159 | 895.00 | MPT * | Federal Communications Commission Media Services P.O. Box 358350 Pittsburgh, PA 15251-5350.
(ii) Short Form (Electronic Filing) | 316 & 159 | 130.00 | MDT * | Federal Communications Commission Media Services P.O. Box 358350 Pittsburgh, PA 15251-5350.
h. Call Sign (Electronic Filing) | 380 & 159 | 90.00 | MBT | Federal Communications Commission Media Services P.O. Box 358165 Pittsburgh, PA 15251-5165.
i. Special Temporary Authority | Corres & 159 | 160.00 | MGT | Federal Communications Commission Media Services P.O. Box 358165 Pittsburgh, PA 15251-5165.
j. Petition for Rulemaking for New Community of License (Electronic Filing) | 301 & 159 302-TV & 159 | 2,475.00 | MRT | Federal Communications Commission Media Services P.O. Box 358165 Pittsburgh, PA 15251-5165.
k. Ownership Report (Electronic Filing) | 323 & 159 Corres & 159 | 60.00 | MAT* | Federal Communications Commission Media Services P.O. Box 358180 Pittsburgh, PA 15251-5180.
2. Commercial AM Radio Stations:
a. New or Major Change Construction Permit (Electronic Filing) | 301 & 159 | 3,565.00 | MUR | Federal Communications Commission Media Services P.O. Box 358190 Pittsburgh, PA 15251-5190.
b. Minor Change (per application) (Electronic Filing) | 301 & 159 | 895.00 | MPR | Federal Communications Commission Media Services P.O. Box 358190 Pittsburgh, PA 15251-5190.
c. Main Studio Request (per request) | Corres & 159 | 895.00 | MPR | Federal Communications Commission Media Services P.O. Box 358190 Pittsburgh, PA 15251-5190.
d. New License (per application) (Electronic Filing) | 302-AM & 159 | 585.00 | MMR | Federal Communications Commission Media Services P.O. Box 358190 Pittsburgh, PA 15251-5190.
e. AM Directional Antenna (per application) (Electronic Filing) | 302-AM & 159 | 675.00 | MOR | Federal Communications Commission Media Services P.O. Box 358190 Pittsburgh, PA 15251-5190.
f. AM Remote Control (per application) (Electronic Filing) | 301 & 159 | 60.00 | MAR | Federal Communications Commission Media Services P.O. Box 358190 Pittsburgh, PA 15251-5190.
g. License Renewal (per application) (Electronic Filing) | 303-S & 159 | 160.00 | MGR | Federal Communications Commission Media Services P.O. Box 358190 Pittsburgh, PA 15251-5190.
h. License Assignment
(i) Long Form (Electronic Filing) | 314 & 159 | 895.00 | MPR * | Federal Communications Commission Media Services P.O. Box 358350 Pittsburgh, PA 15251-5350.
(ii) Short Form (Electronic Filing) | 316 & 159 | 130.00 | MDR * | Federal Communications Commission Mass Media Services P.O. Box 358350 Pittsburgh, PA 15251-5350.
i. Transfer of Control
(i) Long Form (Electronic Filing) | 315 & 159 | 895.00 | MPR * | Federal Communications Commission Media Services P.O. Box 358350 Pittsburgh, PA 15251-5350.
(ii) Short Form (Electronic Filing) | 316 & 159 | 130.00 | MDR * | Federal Communications Commission Media Services P.O. Box 358350 Pittsburgh, PA 15251-5350.
j. Call Sign (Electronic Filing) | 380 & 159 | 90.00 | MBR | Federal Communications Commission Media Services P.O. Box 358165 Pittsburgh, PA 15251-5165.
k. Special Temporary Authority | Corres & 159 | 160.00 | MGR | Federal Communications Commission Media Services P.O. Box 358190 Pittsburgh, PA 15251-5190.
l. Ownership Report (Electronic Filing) | 323 & 159 or Corres & 159 | 60.00 | MAR | Federal Communications Commission Media Services P.O. Box 358180 Pittsburgh, PA 15251-5180.
3. Commercial FM Radio Stations:
a. New or Major Change Construction Permit (Electronic Filing) | 301 & 159 | 3,210.00 | MTR | Federal Communications Commission Media Services P.O. Box 358195 Pittsburgh, PA 15251-5195.
b. Minor Change (Electronic Filing) | 301 & 159 | 895.00 | MPR | Federal Communications Commission Mass Media Services P.O. Box 358195 Pittsburgh, PA 15251-5195.
c. Main Studio Request (per request) | Corres & 159 | 895.00 | MPR | Federal Communications Commission Media Services P.O. Box 358195 Pittsburgh, PA 15251-5195.
d. New License (Electronic Filing) | 302-FM & 159 | 185.00 | MHR | Federal Communications Commission Media Services P.O. Box 358195 Pittsburgh, PA 15251-5195.
e. FM Directional Antenna (Electronic Filing) | 302-FM & 159 | 565.00 | MLR | Federal Communications Commission Media Services P.O. Box 358195 Pittsburgh, PA 15251-5195.
f. License Renewal (per application) (Electronic Filing) | 303-S & 159 | 160.00 | MGR | Federal Communications Commission Media Services P.O. Box 358190 Pittsburgh, PA 15251-5190.
g. License Assignment
(i) Long Form (Electronic Filing) | 314 & 159 | 895.00 | MPR * | Federal Communications Commission Media Services P.O. Box 358350 Pittsburgh, PA 15251-5350.
(ii) Short Form (Electronic Filing) | 316 & 159 | 130.00 | MDR * | Federal Communications Commission Media Services P.O. Box 358350 Pittsburgh, PA 15251-5350.
h. Transfer of Control
(i) Long Form (Electronic Filing) | 315 & 159 | 895.00 | MPR * | Federal Communications Commission Media Services P.O. Box 358350 Pittsburgh, PA 15251-5350.
(ii) Short Form (Electronic Filing) | 316 & 159 | 130.00 | MDR * | Federal Communications Commission Media Services P.O. Box 358350 Pittsburgh, PA 15251-5350.
i. Call Sign (Electronic Filing) | 380 & 159 | 90.00 | MBR | Federal Communications Commission Media Services P.O. Box 358165 Pittsburgh, PA 15251-5165.
j. Special Temporary Authority | Corres & 159 | 160.00 | MGR | Federal Communications Commission Media Services P.O. Box 358195 Pittsburgh, PA 15251-5195.
k. Petition for Rulemaking for New Community of License or Higher Class Channel (Electronic Filing) | 301 & 159 or 302-FM & 159 | 2,475.00 | MRR | Federal Communications Commission Media Services P.O. Box 358195 Pittsburgh, PA 15251-5195.
l. Ownership Report (Electronic Filing) | 323 & 159 or Corres & 159 | 60.00 | MAR | Federal Communications Commission Media Services P.O. Box 358180 Pittsburgh, PA 15251-5180.
4. FM Translators:
a. New or Major Change Construction Permit (Electronic Filing) | 349 & 159 | 675.00 | MOF | Federal Communications Commission Media Services P.O. Box 358200 Pittsburgh, PA 15251-5200.
b. New License (Electronic Filing) | 350 & 159 | 135.00 | MEF | Federal Communications Commission Media Services P.O. Box 358200 Pittsburgh, PA 15251-5200.
c. License Renewal (Electronic Filing) | 303-S & 159 | 60.00 | MAF | Federal Communications Commission Media Services P.O. Box 358190 Pittsburgh, PA 15251-5190.
d. Special Temporary Authority | Corres & 159 | 160.00 | MGF | Federal Communications Commission Media Services P.O. Box 358200 Pittsburgh, PA 15251-5200.
e. License Assignment (Electronic Filing) | 345 & 159 314 & 159 316 & 159 | 130.00 | MDF * | Federal Communications Commission Media Services P.O. Box 358350 Pittsburgh, PA 15251-5350.
f. Transfer of Control (Electronic Filing) | 345 & 159 315 & 159 316 & 159 | 130.00 | MDF * | Federal Communications Commission Media Services P.O. Box 358350 Pittsburgh, PA 15251-5350.
5. TV Translators and LPTV Stations:
a. New or Major Change Construction Permit (per application) (Electronic Filing) | 346 & 159 | 675.00 | MOL | Federal Communications Commission Media Services P.O. Box 358185 Pittsburgh, PA 15251-5185.
b. New License (per application) (Electronic Filing) | 347 & 159 | 135.00 | MEL | Federal Communications Commission Media Services P.O. Box 358185 Pittsburgh, PA 15251-5185.
c. License Renewal (Electronic Filing) | 303-S & 159 | 60.00 | MAL* | Federal Communications Commission Media Services P.O. Box 358165 Pittsburgh, PA 15251-5165.
d. Special Temporary Authority | Corres & 159 | 160.00 | MGL | Federal Communications Commission Media Services P.O. Box 358185 Pittsburgh, PA 15251-5185.
e. License Assignment (Electronic Filing) | 345 & 159 314 & 159 316 & 159 | 130.00 | MDL * | Federal Communications Commission Media Services P.O. Box 358350 Pittsburgh, PA 15251-5350.
f. Transfer of Control (Electronic Filing) | 345 & 159 315 & 159 316 & 159 | 130.00 | MDL * | Federal Communications Commission Media Services P.O. Box 358350 Pittsburgh, PA 15251-5350.
g. Call Sign (Electronic Filing) | 380 & 159 | 90.00 | MBT | Federal Communications Commission Media Services P.O. Box 358165 Pittsburgh, PA 15251-5165.
6. FM Booster Stations:
a. New or Major Change Construction Permit (Electronic Filing) | 349 & 159 | 675.00 | MOF | Federal Communications Commission Media Services P.O. Box 358200 Pittsburgh, PA 15251-5200.
b. New License (Electronic Filing) | 350 & 159 | 135.00 | MEF | Federal Communications Commission Media Services P.O. Box 358200 Pittsburgh, PA 15251-5200.
c. Special Temporary Authority | Corres & 159 | 160.00 | MGF | Federal Communications Commission Media Services P.O. Box 358200 Pittsburgh, PA 15251-5200.
7. TV Booster Stations:
a. New or Major Change (Electronic Filing) | 346 & 159 | 675.00 | MOF | Federal Communications Commission Media Services P.O. Box 358185 Pittsburgh, PA 15251-5185.
b. New License (Electronic Filing) | 347 & 159 | 135.00 | MEF | Federal Communications Commission Media Services P.O. Box 358185 Pittsburgh, PA 15251-5185.
c. Special Temporary Authority | Corres & 159 | 160.00 | MGF | Federal Communications Commission Media Services P.O. Box 358185 Pittsburgh, PA 15251-5185.
8. Class A TV Services:
a. New and Major Change Construction Permits (per application) (Electronic Filing) | 301-CA & 159 | 4,005.00 | MVT | Federal Communications Commission Media Services P.O. Box 358165 Pittsburgh, PA 15251-5165.
b. New License (per application) (Electronic Filing) | 302-CA & 159 | 270.00 | MJT | Federal Communications Commission Media Services P.O. Box 358165 Pittsburgh, PA 15251-5165.
c. License Renewal (per application) (Electronic Filing) | 303-S & 159 | 160.00 | MGT | Federal Communications Commission Media Services P.O. Box 358165 Pittsburgh, PA 15251-5165.
d. Special Temporary Authority | Corres & 159 | 160.00 | MGT | Federal Communications Commission Media Services P.O. Box 358165 Pittsburgh, PA 15251-5165.
e. License Assignment
(i) Long Form (Electronic Filing) | 314 & 159 | 895.00 | MPT * | Federal Communications Commission Media Services P.O. Box 358350 Pittsburgh, PA 15251-5350.
(ii) Short Form (Electronic Filing) | 316 & 159 | 130.00 | MDT * | Federal Communications Commission Media Services P.O. Box 358350 Pittsburgh, PA 15251-5350.
f. Transfer of Control
(i) Long Form (Electronic Filing) | 315 & 159 | 895.00 | MPT * | Federal Communications Commission Media Services P.O. Box 358350 Pittsburgh, PA 15251-5350.
(ii) Short Form (Electronic Filing) | 316 & 159 | 130.00 | MDT * | Federal Communications Commission Media Services P.O. Box 358350 Pittsburgh, PA 15251-5350.
g. Main Studio Request | Corres & 159 | 895.00 | MPT | Federal Communications Commission Media Services P.O. Box 358165 Pittsburgh, PA 15251-5165.
h. Call Sign (Electronic Filing) | 380 & 159 | 90.00 | MBT | Federal Communications Commission Media Services P.O. Box 358165 Pittsburgh, PA 15251-5165.
9. Cable Television Services:
a. CARS License | 327 & 159 | 245.00 | TIC | Federal Communications Commission Media Services P.O. Box 358205 Pittsburgh, PA 15215-5205.
b. CARS Modifications | 327 & 159 | 245.00 | TIC | Federal Communications Commission Media Services P.O. Box 358205 Pittsburgh, PA 15215-5205.
c. CARS License Renewal | 327 & 159 | 245.00 | TIC | Federal Communications Commission Media Services P.O. Box 358205 Pittsburgh, PA 15215-5205.
d. CARS License Assignment | 327 & 159 | 245.00 | TIC | Federal Communications Commission Media Services P.O. Box 358205 Pittsburgh, PA 15215-5205.
e. CARS Transfer of Control | 327 & 159 | 245.00 | TIC | Federal Communications Commission Media Services P.O. Box 358205 Pittsburgh, PA 15215-5205.
f. Special Temporary Authority | Corres & 159 | 160.00 | TGC | Federal Communications Commission Media Services P.O. Box 358205 Pittsburgh, PA 15215-5205.
g. Cable Special Relief Petition | Corres & 159 | 1,250.00 | TQC | Federal Communications Commission Media Services P.O. Box 358205 Pittsburgh, PA 15215-5205.
h. Cable Community Registration (Electronic Filing) | 321 & 159 | 60.00 | TAC | Federal Communications Commission Media Services P.O. Box 358205 Pittsburgh, PA 15215-5205.
i. Aeronautical Frequency Usage Notifications (Electronic Filing) | 321 & 159 | 60.00 | TAC | Federal Communications Commission Media Services P.O. Box 358205 Pittsburgh, PA 15215-5205.

5. Section 1.1105 is revised to read as follows:

§ 1.1105 Schedule of charges for applications and other filings for the wireline competition services.

Service | FCC form No. | Fee amount | Payment type code | Address
1. Communication Assistance for Law Enforcement (CALEA):
Petitions | Corres & 159 | $5,605.00 | CLEA | Federal Communications Commission Wireline Competition Bureau—IA&TD CALEA P.O. Box 358140 Pittsburgh, PA 15251-5140.
2. Domestic 214 Applications:
a. Domestic Cable Construction | Corres & 159 | $965.00 | CUT | Federal Communications Commission Wireline Competition Bureau—CPD—214 Appls. P.O. Box 358145 Pittsburgh, PA 15251-5145.
b. Other | Corres & 159 | $965.00 | CUT | Federal Communications Commission Wireline Competition Bureau—CPD—214 Appls. P.O. Box 358145 Pittsburgh, PA 15251-5145.
3. Tariff Filings:
a. Filing Fees (per transmittal or cover letter) | Corres & 159 | $775.00 | CQK | Federal Communications Commission Wireline Competition Bureau—PPD Tariffs Filings P.O. Box 358150 Pittsburgh, PA 15251-5150.
b. Application for Special Permission Filing (request for waiver of any rule in Part 61 of the Commission's Rules) (per request) | Corres & 159 | $775.00 | CQK | Federal Communications Commission Wireline Competition Bureau—PPD Tariffs Filings P.O. Box 358150 Pittsburgh, PA 15251-5150.
c. Waiver of Part 69 Tariff Rules (per request) | Corres & 159 | $775.00 | CQK | Federal Communications Commission Wireline Competition Bureau—PPD Tariffs Filings P.O. Box 358150 Pittsburgh, PA 15251-5150.
4. Accounting:
a. Review of Depreciation Update Study (single state) | Corres & 159 | $32,680.00 | BKA | Federal Communications Commission Wireline Competition Bureau—PPD—Accounting Rule Depreciation P.O. Box 358140 Pittsburgh, PA 15251-5140.
(i) Each Additional State | Corres & 159 | $1,075.00 | CVA | Federal Communications Commission Wireline Competition Bureau—PPD—Accounting Rule Depreciation P.O. Box 358140 Pittsburgh, PA 15251-5140.
b. Petition for Waiver (per petition)
Waiver of Part 69 Accounting Rules & Part 32 Accounting Rules, Part 36 Separation Rules, Part 43 Reporting Requirements, Part 64 Allocation of Costs Rules, Part 65 Rate of Return & Rate Base Rules | Corres & 159 | $7,365.00 | BEA | Federal Communications Commission Wireline Competition Services—PPD Tariffs Accounting Rule Waiver P.O. Box 358140 Pittsburgh, PA 15251-5140.

6. Section 1.1106 is revised to read as follows:

§ 1.1106 Schedule of charges for applications and other filings for the enforcement services.

Service | FCC form No. | Fee amount | Payment type code | Address
1. Formal Complaints: | Corres & 159 | $190.00 | CIZ | Federal Communications Commission Enforcement P.O. Box 358120 Pittsburgh, PA 15251-5120.
2. Accounting and Audits:
a. Field Audit | N/A | $98,400.00 | BMA | Carriers will be billed.
b. Review of Attest Audit | N/A | $53,710.00 | BLA | Carriers will be billed.
| 3. Development and Review of Agreed upon—Procedures Engagement: | Corres & 159 | $53,710.00 | BLA | Federal Communications Commission Enforcement P.O. Box 358125 Pittsburgh, PA 15251-5125.
4. Pole Attachment Complaint: | Corres & 159 | $240.00 | TPC | Federal Communications Commission Enforcement P.O .Box 358110 Pittsburgh, PA 15215-5110.

7. Section 1.1107 is revised to read as follows:

§ 1.1107 Schedule of charges for applications and other filings for the international services.

Service | FCC form No. | Fee amount | Payment type code | Address
1. International Fixed Public Radio (Public & Control Stations):
a. Initial Construction Permit (per station) | 407 & 159 | $810.00 | CSN | Federal Communications Commission International Bureau—Fixed Public Radio P.O. Box 358160 Pittsburgh, PA 15251-5160.
b. Assignment or Transfer (per Application) | 702 & 159 or 704 & 159 | 810.00 | CSN | Federal Communications Commission International Bureau—Fixed Public Radio P.O. Box 358160 Pittsburgh, PA 15251-5160.
c. Renewal (per license) | 405 & 159 | 585.00 | CON | Federal Communications Commission International Bureau—Fixed Public Radio P.O. Box 358160 Pittsburgh, PA 15251-5160.
d. Modification (per station) | 403 & 159 | 585.00 | CON | Federal Communications Commission International Bureau—Fixed Public Radio P.O. Box 358160 Pittsburgh, PA 15251-5160.
e. Extension of Construction Authorization (per station) | 701 & 159 | 295.00 | CKN | Federal Communications Commission International Bureau—Fixed Public Radio P.O. Box 358160 Pittsburgh, PA 15251-5160.
f. Special Temporary Authority or request for Waiver (per request) | Corres & 159 | 295.00 | CKN | Federal Communications Commission International Bureau—Fixed Public Radio P.O. Box 358160 Pittsburgh, PA 15251-5160.
2. Section 214 Applications:
a. Overseas Cable Construction | Corres & 159 | 14, 415.00 | BIT | Federal Communications Commission International Bureau—Policy P.O. Box 358115 Pittsburgh, PA 15251-5115.
b. Cable Landing License
(i) Common Carrier | Corres & 159 | 1,620.00 | CXT | Federal Communications Commission International Bureau—Policy P.O. Box 358115 Pittsburgh, PA 15251-5115.
(ii) Non-Common Carrier | Corres & 159 | 16,035.00 | BJT | Federal Communications Commission International Bureau—Policy P.O. Box 358115 Pittsburgh, PA 15251-5115.
c. All other International 214 Applications | Corres & 159 | 965.00 | CUT | Federal Communications Commission International Bureau—Policy P.O. Box 358115 Pittsburgh, PA 15251-5115.
d. Special Temporary Authority (all services) | Corres & 159 | 965.00 | CUT | Federal Communications Commission International Bureau—Policy P.O. Box 358115 Pittsburgh, PA 15251-5115.
e. Assignments or transfers (all services) | Corres & 159 | 965.00 | CUT | Federal Communications Commission International Bureau—Policy P.O. Box 358115 Pittsburgh, PA 15251-5115.
3. Fixed Satellite Transmit/Receive Earth Stations:
a. Initial Application (per station) | 312 Main & Schedule B & 159 | 2,410.00 | BAX | Federal Communications Commission International Bureau—Earth Stations P.O. Box 358160 Pittsburgh, PA 15251-5160.
b. Modification of License (per station) | 312 Main & Schedule B & 159 | 170.00 | CGX | Federal Communications Commission International Bureau—Earth Stations P.O. Box 358160 Pittsburgh, PA 15251-5160.
c. Assignment or Transfer
(i) First station | 312 Main & Schedule A & 159 | 475.00 | CNX | Federal Communications Commission International Bureau—Earth Stations P.O. Box 358160 Pittsburgh, PA 15251-5160.
(ii) Each Additional Station | Attachment to 312—Schedule A | 160.00 | CFX | Federal Communications Commission International Bureau—Earth Stations P.O. Box 358160 Pittsburgh, PA 15251-5160.
d. Renewal of License (per station) | 312-R & 159 | 170.00 | CGX | Federal Communications Commission International Bureau—Earth Stations P.O. Box 358160 Pittsburgh, PA 15251-5160.
e. Special Temporary Authority (per request) | 312 Main & Corres & 159 | 170.00 | CGX | Federal Communications Commission International Bureau—Earth Stations P.O. Box 358160 Pittsburgh, PA 15251-5160.
f. Amendment of Pending Application (per station) | 312 Main & Schedule B & 159 | 170.00 | CGX | Federal Communications Commission International Bureau—Earth Stations P.O. Box 358160 Pittsburgh, PA 15251-5160.
g. Extension of Construction Permit (modification) (per station) | 312 Main & 159 | 170.00 | CGX | Federal Communications Commission International Bureau—Earth Stations P.O. Box 358160 Pittsburgh, PA 15251-5160.
4. Fixed Satellite transmit/receive Earth Stations (2 meters or less operating in the 4/6 GHz frequency band):
a. Lead Application | 312 Main & Schedule B & 159 | 5,340.00 | BDS | Federal Communications Commission International Bureau—Earth Stations P.O. Box 358160 Pittsburgh, PA 15251-5160.
b. Routine Application (per station) | 312 Main & Schedule B & 159 | 60.00 | CAS | Federal Communications Commission International Bureau—Earth Stations P.O. Box 358160 Pittsburgh, PA 15251-5160.
c. Modification of License (per station) | 312 Main & Schedule B & 159 | 170.00 | CGS | Federal Communications Commission International Bureau—Earth Stations P.O. Box 358160 Pittsburgh, PA 15251-5160.
d. Assignment or Transfer
(i) First Station | 312 Main & Schedule A & 159 | 475.00 | CNS | Federal Communications Commission International Bureau—Earth Stations P.O. Box 358160 Pittsburgh, PA 15251-5160.
(ii) Each Additional Station | Attachment to 312—Schedule A | 60.00 | CAS | Federal Communications Commission International Bureau—Earth Stations P.O. Box 358160 Pittsburgh, PA 15251-5160.
e. Renewal of License (per station) | 312-R & 159 | 170.00 | CGS | Federal Communications Commission International Bureau—Earth Stations P.O. Box 358160 Pittsburgh, PA 15251-5160.
f. Special Temporary Authority (per request) | 312 Main & 159 | 170.00 | CGS | Federal Communications Commission International Bureau—Earth Stations P.O. Box 358160 Pittsburgh, PA 15251-5160.
g. Amendment of Pending Application (per station) | 312 Main & Schedule A or B & 159 | 170.00 | CGS | Federal Communications Commission International Bureau—Earth Stations P.O. Box 358160 Pittsburgh, PA 15251-5160.
h. Extension of Construction Permit (modification) (per station) | 312 & 159 | 170.00 | CGS | Federal Communications Commission International Bureau—Earth Stations P.O. Box 358160 Pittsburgh, PA 15251-5160.
5. Receive Only Earth Stations:
a. Initial Applications for Registration or License (per station) | 312 Main & Schedule B & 159 | 365.00 | CMO | Federal Communications Commission International Bureau—Earth Stations P.O. Box 358160 Pittsburgh, PA 15251-5160.
b. Modification of License or Registration (per station) | 312 Main & Schedule B & 159 | 170.00 | CGO | Federal Communications Commission International Bureau—Earth Stations P.O. Box 358160 Pittsburgh, PA 15251-5160.
c. Assignment or Transfer
(i) First Station | 312 Main & Schedule A & 159 | 475.00 | CNO | Federal Communications Commission International Bureau—Earth Stations P.O. Box 358160 Pittsburgh, PA 15251-5160.
(ii) Each Additional Station | Attachment to 312—Schedule A | 160.00 | CFO | Federal Communications Commission International Bureau—Earth Stations P.O. Box 358160 Pittsburgh, PA 15251-5160.
d. Renewal of License (per station) | 312-R & 159 | 170.00 | CGO | Federal Communications Commission International Bureau—Earth Stations P.O. Box 358160 Pittsburgh, PA 15251-5160.
e. Amendment of Pending Application (per station) | 312 Main & Schedule A or B & 159 | 170.00 | CGO | Federal Communications Commission International Bureau—Earth Stations P.O. Box 358160 Pittsburgh, PA 15251-5160.
f. Extension of Construction Permit (modification) (per station) | 312 Main & 159 | 170.00 | CGO | Federal Communications Commission International Bureau—Earth Stations P.O. Box 358160 Pittsburgh, PA 15251-5160.
g. Waivers (per request) | Corres & 159 | 170.00 | CGO | Federal Communications Commission International Bureau—Earth Stations P.O. Box 358160 Pittsburgh, PA 15251-5160.
6. Fixed Satellite Very Small Aperture Terminal (VSAT) Systems:
a. Initial Application (per station) | 312 Main & Schedule B & 159 | 8,895.00 | BGV | Federal Communications Commission International Bureau—Earth Stations P.O. Box 358160 Pittsburgh, PA 15251-5160.
b. Modification of License (per system) | 312 Main & Schedule B & 159 | 170.00 | CGV | Federal Communications Commission International Bureau—Earth Stations P.O. Box 358160 Pittsburgh, PA 15251-5160.
c. Assignment or Transfer of System | 312 Main & Schedule A & 159 | 2,380.00 | CZV | Federal Communications Commission International Bureau—Earth Stations P.O. Box 358160 Pittsburgh, PA 15251-5160.
d. Renewal of License (per system) | 312-R & 159 | 170.00 | CGV | Federal Communications Commission International Bureau—Earth Stations P.O. Box 358160 Pittsburgh, PA 15251-5160.
e. Special Temporary Authority (per request) | 312 & 159 | 170.00 | CGV | Federal Communications Commission International Bureau—Earth Stations P.O. Box 358160 Pittsburgh, PA 15251-5160.
f. Amendment of Pending Application (per system) | 312 Main & Schedule A or B & 159 | 170.00 | CGV | Federal Communications Commission International Bureau—Earth Stations P.O. Box 358160 Pittsburgh, PA 15251-5160.
g. Extension of Construction Permit (modification) (per system) | 312 & 159 | 170.00 | CGV | Federal Communications Commission International Bureau—Earth Stations P.O. Box 358160 Pittsburgh, PA 15251-5160.
7. Mobile Satellite Earth Stations
a. Initial Applications of Blanket Authorization | 312 Main & Schedule B & 159 | 8,895.00 | BGB | Federal Communications Commission International Bureau—Earth Stations P.O. Box 358160 Pittsburgh, PA 15251-5160.
b. Initial Application for Individual Earth Station | 312 Main & Schedule B & 159 | 2,135.00 | CYB | Federal Communications Commission International Bureau—Earth Stations P.O. Box 358160 Pittsburgh, PA 15251-5160.
c. Modication of License (per system) | 312 Main & Schedule B & 159 | 170.00 | CGB | Federal Communications Commission International Bureau—Earth Stations P.O. Box 358160 Pittsburgh, PA 15251-5160.
d. Assignment or Transfer (per system) | 312 Main & Schedule A & 159 | 2,380.00 | CZB | Federal Communications Commission International Bureau—Earth Stations P.O. Box 358160 Pittsburgh, PA 15251-5160.
e. Renewal of License (per system) | 312-R & 159 | 170.00 | CGB | Federal Communications Commission International Bureau—Earth Stations P.O. Box 358160 Pittsburgh, PA 15251-5160.
f. Special Temporary Authority (per request) | 312 & 159 | 170.00 | CGB | Federal CommunicationS Commission International Bureau—Earth Stations P.O. Box 358160 Pittsburgh, PA 15251-5160.
g. Amendment of Pending Application (per system) | 312 Main & Schedule B & 159 | 170.00 | CGB | Federal CommunicationS Commission International Bureau—Earth Stations P.O. Box 358160 Pittsburgh, PA 15251-5160.
h. Extension of Construction Permit (modification) (per system) | 312 & 159 | 170.00 | CGB | Federal Communications Commission International Bureau—Earth Stations P.O. Box 358160 Pittsburgh, PA 15251-5160.
8. Space Stations (Geostationary):
a. Application for Authority to Launch & Operate (per satellite)
(i) Initial Application | 312 Main & Schedule S & 159 | 110,580.00 | BNY | Federal Communications Commission International Bureau—Satellites P.O. Box 358210 Pittsburgh, PA 15251-5210.
(ii) Replacement Satellite | 312 Main & Schedule S & 159 | 110,580.00 | BNY |
b. Assignment or Transfer (per satellite) | 312 Main & Schedule A & 159 | 7,900.00 | BFY | Federal Communications Commission International Bureau—Satellites P.O. Box 358210 Pittsburgh, PA 15251-5210.
c. Modification (per satellite) | 312 Main & Schedule S (if needed) & 159 | 7,900.00 | BFY | Federal Communications Commission International Bureau—Satellites P.O. Box 358210 Pittsburgh, PA 15251-5210.
d. Special Temporary Authority (per satellite) | 312 & 159 | 790.00 | CRY | Federal Communications Commission International Bureau—Satellites P.O. Box 358210 Pittsburgh, PA 15251-5210.
e. Amendment of Pending Application (per satellite) | 312 Main & Schedule S (if needed) & 159 | 1,580.00 | CWY | Federal Communications Commission International Bureau—Satellites P.O. Box 358210 Pittsburgh, PA 15251-5210.
f. Extension of Launch Authority (per satellite) | 312 Main & Corres & 159 | 790.00 | CRY | Federal Communications Commission International Bureau—Satellites P.O. Box 358210 Pittsburgh, PA 15251-5210.
9. Space Stations (NGSO)
a. Application for Authority to Launch & Operate (per system of technically identical satellites) satellites | 312 Main & Schedule S & 159 | 380,835.00 | CLW | Federal Communications Commission International Bureau—Satellites P.O. Box 358210 Pittsburgh, PA 15251-5210.
b. Assignment or Transfer (per system) | 312 Main & Schedule A & 159 | 10,885.00 | CZW | Federal Communications Commission International Bureau—Satellites P.O. Box 358210 Pittsburgh, PA 15251-5210.
c. Modification (per system) | 312 Main & Schedule S (if needed) & 159 | 27,205.00 | CGW | Federal Communications Commission International Bureau—Satellites P.O. Box 358210 Pittsburgh, PA 15251-5210.
d. Special Temporary Authority (per request) | Corres & 159 | 2,725.00 | CXW | Federal Communications Commission International Bureau—Satellites P.O. Box 358210 Pittsburgh, PA 15251-5210.
e. Amendment of Pending Application (per request) | 312 Main & Schedule S & 159 | 5,445.00 | CAW | Federal Communications Commission International Bureau—Satellites P.O. Box 358210 Pittsburgh, PA 15251-5210.
f. Extension of Launch Authority (per system) | 312 Main & 159 | 2,725.00 | CXW | Federal Communications Commission International Bureau—Satellites P.O. Box 358210 Pittsburgh, PA 15251-5210.
10. Direct Boradcast Satellites
a. Authorization to Constructor Major Modification (per satellite) | 312 Main & Schedule S & 159 | 3,210.00 | MTD | Federal Communication Commission International Bureau—Satellites P.O. Box 358210 Pittsburgh, PA 15251-5210.
b. Construction Permit and Launch Authority (per satellite) | 312 Main & Schedule S & 159 | 31,140.00 | MXD | Federal Communications Commission International Bureau—Satellites P.O. Box 358210 Pittsburgh, PA 15251-5210.
c. License to Operate (per satellite) | 312 Main & Schedule S & 159 | 31,140.00 | MXD | Federal Communications Commission International Bureau—Satellites P.O. Box 358210 Pittsburgh, PA 15251-5210.
d. Special Temporary Authority (per satellite) | 312 Main & 159 | 160.00 | MGD | Federal Communications Commission International Bureau—Satellites P.O. Box 358210 Pittsburgh, PA 15251-5210.
11. International Broadcast Stations
a. New Station & Facilities Change Construction Permit (per application) | 309 & 159 | 2,695.00 | MSN | Federal Communications Commission International Bureau P.O. Box 358175 Pittsburgh, PA 15251-5175.
b. New License (per application) | 310 & 159 | 610.00 | MNN | Federal Communications Commission application) International Bureau P.O. Box 358175 Pittsburgh, PA 15251-5175.
c. License Renewal (per application) | 311 & 159 | 155.00 | MFN | Federal Communications Commission International Bureau P.O. Box 358175 Pittsburgh, PA 15251-5175.
d. License Assignment or Transfer of Control (per station license) | 314 & 159 or 315 & 159 or 316 & 159 | 95.00 | MCN | Federal Communications Commission International Bureau P.O. Box 358175 Pittsburgh, PA 15251-5175.
e. Frequency Assignment & Coordination (per frequency hour) | Corres & 159 | 60.00 | MAN | Federal Communications Commission International Bureau P.O. Box 358175 Pittsburgh, PA 15251-5175.
f. Special Temporary Authorization (per application) | Corres & 159 | 160.00 | MGN | Federal Communications Commission International Bureau P.O. Box 358175 Pittsburgh, PA 15251-5175.
12. Permit to Deliver Programs to Foreign Broadcast Stations (per application):
a. Commercial Television Stations | 308 & 159 | 90.00 | MBT | Federal Communications Commission International Bureau P.O. Box 358175 Pittsburgh, PA 15251-5175.
b. Commercial AM or FM Radio Stations | 308 & 159 | 90.00 | MBR | Federal Communications Commission International Bureau P.O. Box 358175 Pittsburgh, PA 15251-5175.
13. Recognized Operating Agency (per application) | Corres & 159 | 965.00 | CUG | Federal Communications Commission International Bureau P.O. Box 358115 Pittsburgh, PA 15251-5115.

8. Section 1.1113 is amended by revising paragraph (c) to read as follows:

§ 1.1113 Return or refund of charges.

* * * * *

(c) Applicants in the Media Services for first-come, first-served construction permits will be entitled to a refund of the fee, if, within fifteen days of the issuance of a Public Notice, applicant indicates that there is a previously filed pending application for the same vacant channel, such applicant notifies the Commission that they no longer wish their application to remain on file behind the first applicant and any other applicants filed before his or her application, and the applicant specifically requests a refund of the fee paid and dismissal of his or her application.

* * * * *

9. Section 1.1114 is amended by revising paragraphs (c), (d), and (e) to read as follows:

§ 1.1114 General exemptions to charges.

* * * * *

(c) Applicants, permittees or licensees of noncommercial educational (NCE) broadcast stations in the FM or TV services, as well as AM applicants, permittees or licensees operating in accordance with § 73.503 of this chapter.

(d) Applicants, permittees, or licensees qualifying under paragraph (c) of this section requesting Commission authorization in any other mass media radio service (except the international broadcast (HF) service) private radio service, or common carrier radio communications service otherwise requiring a fee, if the radio service is used in conjunction with the NCE broadcast station on an NCE basis.

(e) Other applicants, permittees, or licensees providing, or proposing to provide, an NCE or instructional service, but not qualifying under paragraph (c) of this section, may be exempt from filing fees, or be entitled to a refund, in the following circumstances.

(1) An applicant is exempt from filing fees if it is an organization that, like the Public Broadcasting Service or National Public Radio, receives funding directly or indirectly through the Public Broadcasting Fund, 47 U.S.C. 396(k), distributed by the Corporation for Public Broadcasting, where the authorization requested will be used in conjunction with the organization on an NCE basis;

(2) An applicant for a translator or low power television station that proposes an NCE service will be entitled to a refund of fees paid for the filing of the application when, after grant, it provides proof that it has received funding for the construction of the station through the National Telecommunications and Information Administration (NTIA) or other showings as required by the Commission.

(3) An applicant that has qualified for a fee refund under paragraph (e)(2) of this section and continues to operate as an NCE station is exempt from fees for broadcast auxiliary stations (subparts D, E, and F of part 74) or stations in the private radio or common carrier services where such authorization is to be used in conjunction with the NCE translator or low power station.

(4) An applicant that is the licensee in the Educational Broadband Service (EBS) (formerly, Instructional Television Fixed Service (ITFS)) (parts 27 and 74, e.g., §§ 27.1200, et seq., and 74.832(b), of this chapter) is exempt from filing fees where the authorization requested will be used by the applicant in conjunction with the provision of the EBS.

* * * * *

[FR Doc. 06-7658 Filed 9-13-06; 8:45 am]

BILLING CODE 6712-01-P